DEPARTMENT OF THE TREASURY

Internal Revenue Service

Recruitment Notice for the Citizen Advocacy Panel

AGENCY: Internal Revenue Service (IRS), Treasury.

ACTION: Notice.

SUMMARY: Notice for recruitment of IRS Citizen Advocacy Panel Members.

DATES: April 26-May 24, 2002.

FOR FURTHER INFORMATION CONTACT: Mike Lewis at 1-202-622-3068

SUPPLEMENTARY INFORMATION: Notice is hereby given the Department of Treasury is expanding the IRS Citizen Advocacy Panel (CAP) to all fifty states to provide independent recommendations to improve IRS service and customer satisfaction. The first pilot Citizen Advocacy Panel (CAP) was established in the South Florida District on June 23, 1998. In 2001, the Citizen Advocacy Panel expanded to a total of ten states including Florida, Metro New York, Midwest (Iowa, Nebraska, Wisconsin and Illinois) and Pacific Northwest (Alaska, Hawaii, Oregon and Washington). The IRS is accepting applications for membership for the nationwide expansion between April 26 and May 24, 2002. The panels will become operational in the Fall of 2002.

The mission of the Citizen Advocacy Panel is to listen to taxpayers, advocate their concerns and provide input for improving IRS service and customer satisfaction. The Panel's sub-committees will consist of 10-17 volunteer members and will function as an advisory body to the IRS.

The Panel is seeking applicants who have an interest in good government, a personal commitment to volunteer approximately 100 to 300 hours a year, and a desire to help improve IRS service and customer satisfaction. Panel membership should represent a cross-section of the taxpaying public throughout the United States. Potential candidates must be US citizens, compliant with Federal, State and Local taxes, and pass a FBI check.

For the Citizen Advocacy Panel to be most effective, members should have experience in some of the following areas: experience helping people resolve problems with a government organization; experience formulating and presenting proposals; knowledge of taxpayer concerns; experience representing the interests of your community, state or region; experience working with people from diverse backgrounds; and experience helping people resolve disputes. Interested applicants should call either toll free number, 1-888-912-1227 or 1-866-602-2223, and request an application package. Completed applications will be reviewed, tax background checks and FBI checks will be conducted, and panel interviews will be conducted with the most qualified candidates. Final candidates will be ranked by experience and suitability. The Secretary of the Treasury will review the recommended candidates and make final selections.

Questions regarding the expansion and selection of the Panel may be directed to Michael Lewis, Office of the Assistant Secretary for Management and Chief Financial Officer, Department of the Treasury, 1500 Pennsylvania Avenue, NW., Room 2421, Washington, DC 20220, (202) 622-3068.

Dated: April 23, 2002.
Ann Junkins,
CAP Program Director.

[FR Doc. 02-10613 Filed 4-29-02; 8:45 am]

BILLING CODE 4830-01-P